FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011117-049.

Title: United States/Australasia Discussion Agreement.

Parties: A.P. Moller-Maersk A/S; ANL Singapore Pte Ltd.; CMA-CGM; Compagnie Maritime Marfret S.A.; Hamburg-Süd; and Hapag-Lloyd AG.

Filing Party: Wayne R. Rohde, Esq.; Sher & Blackwell LLP; 1850 M Street NW., Suite 900; Washington, DC 20036.

Synopsis: The amendment would add Mediterranean Shipping Company S.A. as party to the agreement.

Agreement No.: 011275-032.

Title: Australia and New Zealand-United States Discussion Agreement.

Parties: ANL Singapore Pte Ltd.; CMA CGM, S.A.; Hamburg-Süd KG; and Hapag-Lloyd AG.

Filing Party: Wayne R. Rohde, Esq.; Cozen O'Connor LLP; 1627 I Street NW., Suite 1100; Washington, DC 20006-4007.

Synopsis: The amendment would add Mediterranean Shipping Company S.A. as party to the Agreement.

Agreement No.: 012135-002.

Title: EUKOR Car Carriers, Inc./FOML Space Charter.

Parties: EUKOR Car Carriers, Inc. and FESCO Ocean Management Limited.

Filing Parties: Neal M Mayer, Esq.; Hoppel, Mayer & Coleman; 1050 Connecticut Avenue NW., 10th Floor; Washington, DC 20036

Synopsis: The amendment revises the geographic scope of the agreement to include ports on the U.S. West Coast and ports in the Russian Far East.

Agreement No.: 012143-001.

Title: COSCON/PIL Space Charter and Sailing Agreement.

Parties: COSCO Container Lines Company, Ltd. and Pacific International Lines (PTE) Ltd.

Filing Party: Robert B. Yoshitomi, Esq.; Nixon Peabody LLP; 555 West Fifth Street, 46th Floor; Los Angeles, CA 90013.

Synopsis: The amendment extends the term of the agreement through January 2013.

Agreement No.: 012168.

Title: CSCL/UASC Vessel Sharing Agreement—Asia and U.S. East Coast Service.

Parties: China Shipping Container Lines Co. Ltd. and China Shipping Container Lines (Hong Kong) Co., Ltd. (collectively known as China Shipping); and United Arab Shipping Company S.A.G.

Filing Party: Tara L. Leiter, Esquire; Blank Rome LLP; 600 New Hampshire Avenue NW., Washington, DC 20037.

Synopsis: The agreement authorizes China Shipping and UASC to share space on vessels in the trade between the U.S. East Coast and China.

Agreement No.: 012169.

Title: Crowley/ELJSA Space Charter Agreement.

Parties: Crowley Latin America Services, LLC and Evergreen Line Joint Service Agreement.

Filing Party: Wayne R. Rohde, Esquire; Cozen O'Connor; 1627 I Street NW., Suite 1100; Washington, DC 20006-4007.

Synopsis: The agreement authorizes Crowley to charter space to Evergreen in the trade between the U.S. East Coast and Panama and Costa Rica.

Agreement No.: 201213.

Title: Marine Terminal Services Agreement Between Port of Houston Authority and Cosco Container Lines Americas, Inc.

Parties: Port of Houston Authority and Cosco Container Lines Americas, Inc.

Filing Party: Linda Henry, Esq., Port of Houston Authority, P.O. Box 2562; Houston, TX 77252.

Synopsis: The agreement sets forth certain discounted rates and charges applicable to Bayport Container Lines Americas, Inc.'s container vessels calling at PHA's Barbours Cut and Bayport Container Terminals in the Port of Houston.

Agreement No.: 201214.

Title: Marine Terminal Services Agreement Between Port of Houston Authority and Hanjin Shipping Company, Ltd.

Parties: Port of Houston Authority and Hanjin Shipping Company, Ltd.

Filing Party: Linda Henry, Esq., Port of Houston Authority, P.O. Box 2562; Houston, TX 77252.

Synopsis: The agreement sets forth certain discounted rates and charges applicable to Bayport Container Lines Americas, Inc.'s container vessels calling at PHA's Barbours Cut and Bayport Container Terminals in the Port of Houston.

By Order of the Federal Maritime Commission.
Dated: May 4, 2012.
Karen V. Gregory,
Secretary.

[FR Doc. 2012-11199 Filed 5-8-12; 8:45 am]

BILLING CODE 6730-01-P